GENERAL SERVICES ADMINISTRATION

[OMB Control No. 3090-0235]

Submission for OMB Review; Comment Request Entitled Price Reductions Clause

Correction

In notice document 02-3533 beginning on page 6713 in the issue of Wednesday, February 13, 2002, make the following correction:

On page 6713, in the SUMMARY section, in the twelfth line “October 20” should read “October 30”.

[FR Doc. C2-3533 Filed 2-21-02; 8:45 am]

BILLING CODE 1505-01-D

DEPARTMENT OF TRANSPORTATION

Federal Aviation Administration

14 CFR Part 39

[Docket No. 2001-CE-38-AD; Amendment 39-12638; AD 2002-02-10]

RIN 2120-AA64

Airworthiness Directives; Pilatus Britten-Norman Limited BN-2, BN-2A, BN-2B, and BN-2T Series Airplanes

Correction

In rule document 02-2946 beginning on page 6388 in the issue of Tuesday, February 12, 2002 make the following correction:

§39.13 [Corrected]

On page 6389, in § 39.13(d), in the table, the second column, under the heading “Compliance”, the last sentence “Replace thereafter prior to further bulletin), flight after any loose rivet, structural accomplish the damage, or crack is found.” should read “Replace thereafter prior to further flight after any loose rivet, structural damage, or crack is found.”

[FR Doc. C2-2946 Filed 2-21-02; 8:45 am]

BILLING CODE 1505-01-D